DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2012, there were five applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L.101-508) and Part 158 of the Federal Aviation Regulations (14 CFR part 158). This notice is published pursuant to paragraph d of § 158.29.

PFC Applications Approved

Public Agency: City of Savannah and Savannah Airport Commission, Savannah, Georgia.

Application Number: 12-09-C-00-SAV.

Application Type: Impose and use a PFC.

PFC Level: $4.50.

Total PFC Revenue Approved In This Decision: $1,619,201.

Earliest Charge Effective Date: December 1, 2016.

Estimated Charge Expiration Date: October 1, 2017.

Class Of Air Carriers Not Required To Collect PFC's:

Air taxi/commercial operators filing FAA Form 1800-31 and operating at Savannah Hilton Head International Airport (SAV).

Determination: Approved. Based on information contained in the public agency's application, the FAA has determined that the approved class accounts for less than 1 percent of the total annual enplanements at SAV.

Brief Description of Projects Approved for Collection and Use:

Traffic survey design.

Terminal curbside canopy construction.

Tree removal runway 10 approach.

PFC implementation and administration costs.

Brief Description of Projects Approved for Use:

Site mitigation.

Realign and construct Gulfstream Road.

Taxiway A extension north—construction/tunnel construction.

Electrical vault.

Taxiway H construction.

Storm water update.

Gulfstream Road/tunnel design.

Airfield electrical vault design.

Taxiway A design.

Taxiway H design.

Decision Date: September 18, 2012.

FOR FURTHER INFORMATION CONTACT: Robert Rau, Atlanta Airports District Office, (404) 305-7004.

Public Agency: Grand Forks Regional Airport Authority, Grand Forks, North Dakota.

Application Number: 12-09-C-00-GFK.

Application Type: Impose and use a PFC.

PFC Level: $4.50.

Total PFC Revenue Approved in This Decision: $550,000.

Earliest Charge Effective Date: January 1, 2018.

Estimated Charge Expiration Date: January 1, 2019.

Class of Air Carriers Not Required To Collect PFC's:

Air taxi/commercial operators filing FAA Form 1800-31.

Determination: Approved. Based on information contained in the public agency's application, the FAA has determined that the approved class accounts for less than 1 percent of the total annual enplanements at Grand Forks International Airport.

Brief Description of Project Approved for Collection and Use:

Purchase of runway broom.

Decision Date: September 18, 2012.

FOR FURTHER INFORMATION CONTACT: David Anderson, Bismarck Airports District Office, (701) 323-7385.

Public Agency: Huntsville-Madison County Airport Authority, Huntsville, Alabama.

Application Number: 12-18-C-00-HSV.

Application Type: Impose and use a PFC.

PFC Level: $4.50.

Total PFC Revenue Approved in This Decision: $700,868.

Earliest Charge Effective Date: May 1, 2022.

Estimated Charge Expiration Date: September 1, 2022.

Classes of Air Carriers Not Required To Collect PFC's:

(1) Air taxi/commercial operators at Huntsville International Airport—Carl T Jones field (HSV); (2) certified air carriers at HSV; and (3) certified route air carriers having fewer than 500 annual passenger enplanements at HSV.

Determination: Approved. Based on information contained in the public agency's application, the FAA has determined that each approved class accounts for less than 1 percent of the total annual enplanements at HSV.

Brief Description of Projects Approved for Collection and Use:

Acquire land for development.

Aircraft rescue and firefighting vehicles and equipment.

Glenn Hearn Boulevard/James Record Road intersection improvement.

Airport pavement rehabilitation.

Airport layout plan master plan update.

Interactive training and workstation.

Decision Date: September 20, 2012.

FOR FURTHER INFORMATION CONTACT: Jonathan Linquist, Jackson Airports District Office, (601) 664-9893.

Public Agency: Niagara Frontier Transportation Authority, Buffalo, New York.

Application Number: 11-09-C-00-BUF.

Application Type: Impose and use a PFC.

PFC Level: $4.50.

Total PFC Revenue Approved in This Decision: $1,702,533.

Earliest Charge Effective Date: June 1, 2014.

Estimated Charge Expiration Date: August 1, 2014.

Class of Air Carriers Not Required To Collect PFC's:

None.

Brief Description of Projects Approved for Collection and Use at Buffalo Niagara International Airport (BUF) at a $3.00 PFC Level:

Glycol recovery vehicles.

Purchase runway broom.

Brief Description of Projects Approved for Collection at BUF and Use at Niagara Falls International Airport at a $4.50 PFC Level:

Mill and overlay of runway 10L/28R.

Runway 06/24 safety area improvements.

Brief Description of Withdrawn Projects:

Noise compatibility program at BUF.

Glycol treatment project at BUF.

Runway friction tester at BUF.

PFC planning and programming administration costs.

Date of Withdrawal: May 3, 2012.

Decision Date: September 24, 2012.

FOR FURTHER INFORMATION CONTACT: Patricia Henn, Eastern Regional Airports Division, (718) 553-3357.

Public Agency: Maryland Department of Transportation and Maryland Aviation Administration, Baltimore, Maryland.

Application Number: 12-10-C-00-BWI.

Application Type: Impose and use a PFC.

PFC Level: $4.50.

Total PFC Revenue Approved in This Decision: $341,596,215.

Earliest Charge Effective Date: April 1, 2021.

Estimated Charge Expiration Date: March 1, 2028.

Class of Air Carriers Not Required To Collect PFC's:

Air taxi/commercial operators filing FAA Form 1800-31.

Determination: Approved. Based on information contained in the public agency's application, the FAA has determined that the approved class accounts for less than 1 percent of the total annual enplanements at Baltimore-Washington International Thurgood Marshall Airport.

Brief Description of Projects Approved for Collection and Use at a $4.50 PFC Level:

Property acquisition—runway protection zone.

Obstruction removal—runways 10/28 and 15R/33L.

Environmental mitigation—runway safety area.

Runway 210/28 airfield lighting improvements.

Runway 10/28 navigational aids.

Runway 15R/33L lighting improvements.

Runway 15R/33L pavement rehabilitation and standards.

Taxiway P/runway 15R deicing pad pavement rehabilitation.

Taxiway P/runway 15R deicing pad lighting rehabilitation.

Taxiways serving runway 15R/33L (pavement rehabilitation).

Taxiways serving runway 15R/33L (lighting).

Runway 15R/33L navigational aids.

Runway 15R/33L flight kitchen demolition.

Runway 15L/33R runway safety area improvements.

Future taxiway P (pavement removal).

Future taxiway P (taxiway lighting).

Future taxiway P (pavement rehabilitation).

Taxiway C standards and compliance.

Brief Description of Projects Partially Approved for Collection and Use at a $4.50 PFC Level:

Runway 10/28 runway safety area improvements.

Determination: The approved amount was reduced from that requested due to the public agency receiving an Airport Improvement Program (AIP) grant for partial project funding.

Runway 10/28 rehabilitation and standards.

Determination: The approved amount was reduced from that requested due to the public agency receiving an AIP grant for partial project funding.

Runway 10/28 AMTRAK catenary system modification.

Determination: The approved amount was reduced from that requested due to the public agency receiving an AIP grant for partial project funding.

Runway 15R/33L runway safety area improvements.

Determination: The approved amount was reduced from that requested due to the commitment for partial AIP funding for the project.

Decision Date: September 25, 2012.

FOR FURTHER INFORMATION CONTACT: Jeffery Breeden, Washington Airports District Office, (703) 661-1363.

Amendments to PFC Approvals
Amendment No., City, State | Amendment approved date | Original approved net PFC revenue | Amended approved net PFC revenue | Original estimated charge exp. date | Amended estimated charge exp. date
01-03-C-06-LIT, Little Rock, AR | 08/30/12 | $8,239,062 | $8,237,062 | 07/01/04 | 07/01/04
04-04-U-03-LIT, Little Rock, AR | 08/30/12 | NA | NA | 07/01/04 | 07/01/04
11-06-C-01-SDF, Louisville, KY | 09/04/12 | 2,123,882 | 2,479,014 | 11/01/16 | 12/01/16
07-08-C-01-BTM, Butte, MT | 09/11/12 | 146,916 | 58,163 | 03/01/10 | 03/01/10
04-07-C-02-LSE, La Crosse, WI | 09/17/12 | 1,439,553 | 1,426,949 | 06/01/07 | 06/01/07
93-01-C-04-CHA, Chattanooga, TN | 09/19/12 | 9,013,922 | 5,943,004 | 11/01/04 | 11/01/04
00-03-C-03-CHA, Chattanooga, TN | 09/19/12 | 5,752,115 | 5,980,888 | 08/01/10 | 08/01/10
05-04-C-02-FNL, Fort Collins, CO | 09/20/12 | 276,130 | 212,831 | 03/01/07 | 03/01/07
*00-06-C-08-MKE, Milwaukee, WI | 09/25/12 | 124,348,365 | 121,356,488 | 07/01/13 | 04/01/13
02-07-C-06-MKE, Milwaukee, WI | 09/26/12 | 35,251,806 | 34,755,919 | 11/01/15 | 04/01/15
Notes: The amendment denoted by an asterisk (*) include a change to the PFC level charged from $3.00 per enplaned passenger to $4.50 per enplaned passenger. For Milwaukee, WI, this change is effective on November 1, 2012.

Issued in Washington, DC. on September 4, 2013.
Joe Hebert,
Manager, Financial Analysis and Passenger Facility Charge Branch.

[FR Doc. 2013-22557 Filed 9-16-13; 8:45 am]

BILLING CODE 4910-13-P